DEPARTMENT OF COMMERCE

National Oceanic and Atmospheric Administration

[I.D. 102400D]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on November 13-16, 2000.

ADDRESSES: These meetings will be held at the Isle of Capri Casino Hotel, 151 Beach Boulevard, Biloxi, MS; telephone: 228-435-5400.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

November 15

8:30 a.m.—Convene.

9 a.m. - 12 noon—Receive public testimony on a proposed amendment to the Stone Crab Fishery Management Plan (FMP), a proposed amendment to the Shrimp FMP, and a proposed Dolphin/Wahoo FMP. Persons who will testify must turn in a registration card before the start of the testimony period on Wednesday.

1:30 p.m. - 4 p.m.-Continue public testimony if needed.

4 p.m. - 5 p.m.—Receive a report of the Shrimp Management Committee.

5 p.m. - 5:30 p.m.—Receive a presentation on the Invasion of Australian Spotted Jellyfish.

4:30 p.m. - 4:45 p.m.—Receive a report of the Stone Crab Management Committee.

November 16

8:30 a.m. - 9:30 a.m.—Receive a briefing on new travel procedures for Council members.

9:30 a.m. - 11:30 a.m.—Receive a report of the Reef Fish Management Committee.

11:30 a.m. - 12 noon—Receive a report of the Mackerel Management Committee.

1:30 p.m. - 2:30 p.m.—Receive a report of the Joint Reef Fish and Mackerel Management Committees.

2:30 p.m. - 3 p.m.—Receive a report of the Habitat Protection Committee.

3 p.m. - 3:15 p.m.—Receive a report of the Administrative Policy Committee.

3:15 p.m. - 3:30 p.m.—Receive a report of the Stone Crab Management Committee.

3:30 p.m. - 3:45 p.m.—Receive the South Atlantic Fishery Management Council Liaison report.

3:45 p.m. - 4 p.m.—Receive the International Commission for the Conservation of Atlantic Tunas Advisory Committee Report.

4 p.m. - 4:15 p.m.—Receive enforcement reports.

4:15 p.m. - 4:30 p.m.—Receive the NMFS Regional Administrator’s Report.

4:30 p.m. - 4:45 p.m.—Receive Director’s Reports.

4:45 p.m. - 5 p.m.—Other Business.

November 13

1 p.m. - 3:30 p.m.—Convene the Shrimp Management Committee to discuss the proposed Shrimp Amendment 11 and develop recommendations for final action by the full Council on Wednesday afternoon. Shrimp Amendment 11 contains alternatives for requiring shrimp vessel permits, shrimp vessel registration, operator permits, and prohibiting trap gear in the royal red shrimp fishery of the exclusive economic zone.

3 :30 p.m. - 4 p.m.—Convene the Stone Crab Management Committee to discuss the proposed Stone Crab Amendment 7 and will develop recommendations for final action by the full Council on Thursday afternoon. Stone Crab Amendment 7 proposes to create a Federal trap certificate program for the commercial stone crab fishery in Federal waters off Florida. This program will be similar to the trap certificate program adopted by the state of Florida.

4 p.m. - 5:30 p.m.—Convene the Mackerel Management Committee to discuss the proposed Dolphin/Wahoo FMP and develop recommendations for final action by the full Council on Wednesday afternoon. They will also hear scientific presentations on cobia. The Dolphin/Wahoo FMP has been prepared by the South Atlantic, Gulf, and Caribbean fishery management councils. The first 10 actions, with options, of the Dolphin/Wahoo FMP contain measures that are applicable to the dolphin and wahoo stocks in the jurisdictions of all 3 councils. These include measures to: define the management units; address dealer, vessel, and operator permits; consider data reporting requirements; identify estimates of maximum sustainable yield, optimum yield, and overfishing/overfished criteria; and, framework options to enable seasonal adjustments to the management structure. Other actions, with options, are separately applicable to each Council’s area of jurisdiction, and include actions that may be implemented through the framework procedures, e.g. minimum size limits, bag limits, trip limits, and allocations, among others.

November 14

8:30 a.m. - 12:30 a.m.—Convene the Reef Fish Management Committee to receive the Reef Fish Stock Assessment Panel’s and the Socioeconomic Panel’s recommendations on grouper complex rebuilding scenarios, and to receive a report from NMFS on red snapper restoration scenarios. This discussion will include management strategies, estimates of trawl bycatch, alternative assessment scenarios, and the management implications.

1:30 p.m. - 2 p.m.—Convene the Joint Reef Fish and Mackerel Management Committees to consider further Council action on a Draft Amendment for Charter Vessel Permit Moratorium for public hearings. The draft amendment proposes to put a moratorium on the issuance of additional permits for charter vessels to fish for reef fish or coastal migratory pelagics in federal waters of the Gulf of Mexico. The amendment will make the charter vessel permits transferable.

2 p.m. - 4 p.m.—Convene the Habitat Protection Committee to hear a review of the Turkey Creek Development Project, a review of floating production storage and offloading systems, an update on an Essential Fish Habitat lawsuit, receive recommendations from the Texas Habitat Protection Advisory Panel meeting, and discuss draft council wetland and submerged aquatic vegetation policies.

4 p.m. - 5:30 p.m.—Convene the Administrative Policy Committee to discuss amendments to the Magnuson-Stevens Fishery Conservation and Management Act (Magnuson Act) and amendments to the Council’s Administrative Handbook. They will develop recommendations for comments to be heard by full Council on Thursday afternoon.

Although non-emergency issues not contained in the agenda may come before the Council for discussion, in accordance with the Magnuson Act, those issues may not be the subject of formal Council action during this meeting. Council action will be restricted to those issues specifically identified in this notice and any issues arising after publication of this notice that require emergency action under section 305 (c) of the Magnuson Act, provided the public has been notified of the Council’s intent to take final action to address the emergency. A copy of the Committee schedule and agenda can be obtained by calling (813) 228-2815.

Special Accommodations

These meetings are physically accessible to people with disabilities. Requests for sign language interpretation or other auxiliary aids should be directed to Anne Alford at the Council (see ADDRESSES) by November 6, 2000.

Dated: October 25, 2000.
Richard W. Surdi,
Acting Director, Office of Sustainable Fisheries, National Marine Fisheries Service.

[FR Doc. 00-27818 Filed 10-27-00; 8:45 am]

BILLING CODE 3510-22-S